DEPARTMENT OF TRANSPORTATION

Federal Railroad Administration

Petition for Waiver of Compliance

In accordance with part 211 of title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

American Short Line and Regional Railroad Association

[Waiver Petition Docket Number FRA-2009-0078]

In response to the American Short Line and Regional Railroad Association's (ASLRRA) July 16, 2009, petition in this docket, FRA granted certain identified ASLRRA member railroads limited conditional relief from the Federal hours of service law (HSL; 49 U.S.C. Chapter 211). Specifically, FRA granted the identified ASLRRA member railroads listed on ASLRRA's “Seconded Amended Exhibit A” in this docket relief from 49 U.S.C. 21103(a)(4)(A). (See FRA letter dated March 5, 2010, document number—0008.1 in the docket). Section 21103(a)(4)(A) mandates that train employees have 48 or 72-hour off-duty periods following the initiation of on-duty periods on either 6 or 7 consecutive days.

On September 1, 2010, ASLRRA filed a motion to amend its petition in this docket to: (1) Add and withdraw participating railroads, and (2) expand the scope of the waiver granted in FRA's initial decision. ASLRRA included with its September 1, 2010, motion, evidence that the applicable labor organizations or affected employees of each listed railroad concur with the request for relief.

By a letter dated October 15, 2010, FRA denied ASLRRA's request to expand the scope of the relief granted, but reserved decision on the request to make additional ASLRRA member railroads party to the waiver, pending the solicitation of public comment on that aspect of ASLRRA's request. (See FRA letter dated October 15, 2010, document number 0085.1 in the docket). This notice solicits public comment on ASLRRA's request to make the nineteen additional railroads identified in its September 1, 2010, motion parties to the waiver. A complete copy of ASLRRA's motion may be viewed at http://www.regulations.gov under the docket number listed above. (See documents numbered 0048.1 and 0048.2 in the docket).

Separately, by a letter dated September 29, 2010, ASLRRA notified FRA of an error in its “Second Amended Exhibit A” upon which FRA based its initial grant of relief. (See document number 0078.1 in the docket). Specifically, ASLRRA notified FRA that one ASLRRA member railroad, the Heart of Georgia Railroad, was inadvertently omitted from the amended exhibit. Noting that the Heart of Georgia Railroad had properly executed the application agreeing to participate in ASLRRA's petition and proposed pilot project, and had already filed evidence of its employee concurrence with the waiver in the docket as required by FRA's March 5, 2010, letter, ASLRRA requested that FRA add the Heart of Georgia Railroad to the list of railroads participating in the waiver. FRA has done so, subject to public comment on the Heart of Georgia Railroad's participation in the waiver.

Interested parties are invited to participate in these proceedings by submitting written views, data, or comments. FRA does not anticipate scheduling a public hearing in connection with these proceedings, since the facts do not appear to warrant a hearing. If any interested party desires an opportunity for oral comment, they should notify FRA, in writing, before the end of the comment period and specify the basis for their request.

All communications concerning these proceedings should identify the appropriate docket number (Docket Number FRA-2009-0078) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on December 1, 2010.
Robert C. Lauby,
Deputy Associate Administrator for Regulatory and Legislative Operations.

[FR Doc. 2010-30532 Filed 12-6-10; 8:45 am]

BILLING CODE 4910-06-P